ENVIRONMENTAL PROTECTION AGENCY

[FRL-8221-3]

Notification of Closure of the EPA Headquarters Library

AGENCY: Environmental Protection Agency (EPA).

ACTION: Notice.

SUMMARY: The EPA Headquarters Library will close its doors to walk-in patrons and visitors on October 1, 2006. This notice provides information regarding how members of the public can access EPA documents held in the Headquarters Repository Library collection and in electronic format.

FOR FURTHER INFORMATION CONTACT: Jeff Tumarkin, Mailcode 2843T, Office of Environmental Information, Information Access Division, Environmental Protection Agency, 1200 Pennsylvania Ave., NW., Washington, DC 20460; telephone number: (202) 566-0681; e-mail address: Tumarkin.Jeff@epa.gov.

SUPPLEMENTARY INFORMATION: The trend in recent years has shown a shift in the ways that people request and receive library services from EPA. With more material available online and electronically, EPA has found that its employees and the public are finding the materials they need from EPA's web site and they are requesting more information electronically. In addition, with tighter security at Federal facilities, the public's physical visits to the EPA Headquarters Library have been declining. These trends, in addition to reductions in the library's FY07 budget, suggested to EPA that it needed to use information technology to improve its delivery of library services to EPA and public patrons. Library services for EPA staff and the public will be maintained as detailed in the new EPA Library Network National Framework which is available online at http://www.epa.gov/natlibra/.

Beginning October 1, 2006, the EPA Headquarters Library, located in Room 3340 in the EPA West Building, located at 1301 Constitution Ave., NW., Washington, DC, will become one of three EPA repositories for paper copies of EPA documents, reports and publications. The other two repositories will be located at the EPA-RTP Library, 109 T.W. Alexander Drive, Durham, NC 27711, and at the Andrew W. Breidenbach Environmental Research Center, 26 W. Martin Luther King Dr., Cincinnati, OH 45268. Public access to EPA's valuable documents collections continues to be a critical mission of the EPA Libraries. Thousands of EPA documents and reports can be accessed in full-text electronic format through the National Environmental Publications Information System (NEPIS) at http://nepis.epa.gov/. Members of the public can also search for EPA documents in the libraries' catalog at http://www.epa.gov/natlibra/ols.htm. Once items of interest are identified, they can be borrowed via interlibrary loan thru participating institutions. The public will continue to have access to environmental information thru the EPA Regional Libraries remaining open http://www.epa.gov/natlibra/libraries.htm.

The answers to many questions about EPA and its activities can be found in the Agency's Frequently Asked Questions database which can searched online at http://publicaccess.custhelp.com/. Additionally, the public will continue to have access to comprehensive environmental information via the EPA Web site at http://www.epa.gov.

Dated: September 13, 2006.
Linda A. Travers,
Acting Assistant Administrator and Chief Information Officer, Office of Environmental Information.

[FR Doc. 06-7803 Filed 9-19-06; 8:45 am]

BILLING CODE 6560-50-P